DEPARTMENT OF COMMERCE

Office of the Secretary

Agency Information Collection Activities; Submission to the Office of Management and Budget (OMB) for Review and Approval; Comment Request; Challenge and Prize Competition Solicitations Generic Clearance

AGENCY: Office of the Secretary, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 23, 2026.

ADDRESSES: Interested persons are invited to submit written comments by mail to the Departmental PRA Compliance Officer, Office of the Under Secretary for Economic Affairs, at PRAcomments@doc.gov. Do not submit Confidential Business Information or otherwise sensitive or protected information.

FOR FURTHER INFORMATION CONTACT: Requests for additional information or specific questions related to collection activities should be directed to the Departmental PRA Compliance Officer, Office of the Under Secretary for Economic Affairs, at 1401 Constitution Avenue NW, Washington, DC 20230 or PRAcomments@doc.gov.

SUPPLEMENTARY INFORMATION:

I. Abstract

This request is for an extension of a currently approved generic clearance for the collection of routine information requested of respondents in challenges and competitions that the Department of Commerce posts on the General Service Administration (GSA)'s Challenge.gov website since passage of the America COMPETES Act of 2011. In order for DOC to launch competitions quickly and effectively on a continual basis, DOC seeks generic clearance to collect information for these challenges and competitions, which will generally include first name, last name, email, city, state and when applicable other demographic information. It can also include other information necessary to evaluate submissions and understand their impact related to the general goals of the competition. Upon entry or during the judging process, applicants under the age of 18 may be asked to confirm parental consent, requiring students under 18 to have a parent's signature on a parental consent form provided by the DOC in order to qualify for the contest. For certain challenges we may also need to collect data such as types of data sets used in the solution, types of software tools used in the solution, and information regarding uses of proprietary software (i.e., licenses or use agreements). Information obtained from participants will be used by the program managers (challenge manager), technical reviewers, and other agency officials (such agency counsels.

In 2011, Federal agencies including DOC were given prize authority for administering challenges and competitions. Section 105(a) of the America Competes Act, adds Section 24 to the Stevenson-Wydler Technology Innovation Act of 1980 (15 U.S.C. 3701 et seq.) that addresses provisions for challenges and competitions with prizes conducted by Federal agencies. Challenges and competitions enable DOC to tap into the expertise and creativity of the public in new ways. DOC evaluates submissions and typically awards monetary or non-monetary prizes to winning entries. DOC may sponsor challenges and competitions in a wide variety of areas to increase public participation and solicit new ideas on a wide array of topics important to the agency's mission. DOC's goal is to engage a broader number of stakeholders who are inspired to work on some of our most pressing issues.

The information collected will be used to understand whether the participant has met the technical requirements for the challenge, assist in the technical review and judging of the solutions that are provided, and assess how the competition was administered. Information may be collected during the competition or after its completion.

This clearance applies to challenges posted on Challenge.gov, which uses a common platform for the solicitation of challenges from the public. Each agency designs the criteria for its solicitations based on the goals of the challenge and the specific needs of the agency. There is no standard submission format for solution providers to follow, and there is no set schedule for the issuance of challenges; they are developed and issued on an “as needed” basis in response to issues the federal agency wishes to solve.

II. Method of Collection

The primary method of collection will be electronic. Some supporting documents may be emailed, mailed, or collected in person.

III. Data

OMB Control Number: 0690-0031.

Form Number(s): Varies or None.

Type of Review: Regular submission, an extension of a currently approved collection.

Affected Public: Individuals or Households; Private Sector; Not-for-profit institutions; State, Local, or Tribal government.

Estimated Number of Respondents: 1,100.

Estimated Time per Response: 10-30 minutes.

Estimated Total Annual Burden Hours: 800.

Estimated Total Annual Cost to Public: Nominal.

Respondent's Obligation: Voluntary.

Frequency of Requests: One-time.

Legal Authority: 15 U.S.C. 3701 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2026-00901 Filed 1-16-26; 8:45 am]

BILLING CODE 3510-13-P